ENVIRONMENTAL PROTECTION AGENCY

[FRL-9632-4]

National Advisory Council for Environmental Policy and Technology

AGENCY: Environmental Protection Agency (EPA).

ACTION: Cancellation and Rescheduling of National Advisory Council for Environmental Policy and Technology (NACEPT) Committee Meeting.

SUMMARY: EPA announced in the Federal Register on January 12, 2012 [FRL-9617-7] a National Advisory Council for Environmental Policy and Technology (NACEPT) Meeting to be held at the EPA Potomac Yard Conference Center, One Potomac Yard, 2777 S. Crystal Drive, Arlington, VA 22202. Under the Federal Advisory Committee Act, Public Law 92463, EPA gives notice of cancellation and rescheduling of that public meeting for the National Advisory Council for Environmental Policy and Technology (NACEPT). NACEPT provides advice to the EPA Administrator on a broad range of environmental policy, technology, and management issues. NACEPT members represent academia, industry, non-governmental organizations, and local, state, and tribal governments. The purpose of this meeting is to begin developing recommendations to the Administrator regarding actions that EPA can take in response to the National Academy of Sciences Report on “Incorporating Sustainability in the U.S. Environmental Protection Agency.” A copy of the agenda for the meeting will be posted at http://www.epa.govofacmo/nacept/cal-nacept.htm.

DATES: NACEPT has cancelled the two-day public meeting scheduled for February 13, 2012, from February 14, 2012. NACEPT will now hold the two-day public meeting on Monday, March 26, 2012, from 9 a.m. to 5:30 p.m. (EST) and Tuesday, March 27, 2012 from 8:30 a.m. to 2 p.m. (EST).

ADDRESSES: The meeting will be held at the EPA East Building Room 1153, 1201 Constitution Avenue NW., Washington, DC 20004.

FOR FURTHER INFORMATION CONTACT: Mark Joyce, Acting Designated Federal Officer, joyce.mark@epa.gov, (202) 564-2130, U.S. EPA, Office of Federal Advisory Committee Management and Outreach (1601M), 1200 Pennsylvania Avenue NW., Washington, DC 20460.

SUPPLEMENTARY INFORMATION: Requests to make oral comments or to provide written comments for the March 26-27, 2012, NACEPT meeting should be sent to Eugene Green at green.eugene@epa.gov by Monday, March 19, 2012. The meeting is open to the public, with limited seating available on a first-come, first-served basis. Members of the public wishing to attend should contact Eugene Green at green.eugene@epa.gov or (202) 564-2432 by March 19, 2012.

Meeting Access: Information regarding accessibility and/or accommodations for individuals with disabilities should be directed to Eugene Green at the email address or phone number listed above. To ensure adequate time for processing, please make requests for accommodations at least 10 days prior to the meeting.

Dated: February 7, 2012.
Mark Joyce,
Acting Designated Federal Officer.

[FR Doc. 2012-3533 Filed 2-14-12; 8:45 am]

BILLING CODE 6560-50-P